ENVIRONMENTAL PROTECTION AGENCY

[ER-FRL-6638-2]

Environmental Impact Statements; Notice of Availability

AGENCY: Office of Federal Activities, General Information (202) 564-7167 or http://www.epa.gov/compliance/nepa/

Weekly receipt of Environmental Impact Statements

Filed February 24, 2003 Through February 28, 2003

Pursuant to 40 CFR 1506.9.

EIS No. 030076, Draft EIS, AFS, WI, McCaslin Project, To Implement Vegetation Management Activities that are Consistent with Direction in the Nicolet Forest Plan, Lakewood/Laona Ranger District, Chequamegon-Nicolet National Forest, Oconto Forest Counties, WI, Comment Period Ends: April 21, 2003, Contact: John Lampereur (715) 276-6333.

EIS No. 030077, Final EIS, FSA, Programmatic EIS—Emergency Conservation Program (ECP), Improvement and Expansion, To Provide Emergency Funding to Farmers and Ranchers, In the Agricultural Lands of the United States, Wait Period Ends: April 7, 2003, Contact: Don Steck (202) 609-0224. This document is available on the Internet at: http://www.fsa.usda.gov/dafp/cepd/epb/nepa.htm.

EIS No. 030078, Draft EIS, NPS, AK, Denali National Park and Preserve Backcountry Management Plan and General Management Plan Amendment, Implementation, AK, Comment Period Ends: May 7, 2003, Contact: Mike Tranel (907) 257-2562. This document is available on the Internet at: http://www.nps.gov/dena.

EIS No. 030079, Draft EIS, UAF, AZ, Barry M. Goldwater Range (BMGR) Proposed Integrated Natural Resources Management Plan (INRMP), Implementation, Military Lands Withdrawal Act of 1999 (Public Law 106-65) and Sike Act (16 U.S.C. 670), Yuma, Pima and Maricopa Counties, AZ, Comment Period Ends: May 7, 2003, Contact: Capt. Stephanie Dawley, (623) 856-3823.

EIS No. 030080, Draft EIS, AFS, SC, Sumter National Forest Revised Land and Resource Management Plan, Implementation, Oconee, Chester, Fairfield, Laurens, Newberry, Union-Abbeville, Edgefield, Greenwood, McCormick and Saluda Counties, SC, Comment Period Ends: April 21, 2003, Contact: Jerome Thomas (803) 561-4000.

EIS No. 030081, Final Supplement, AFS, AK, Tongass Land Management Plan Revision for Roadless Area Evaluation for Wilderness Recommendations, Implementation, Tongas National Forest, AK, Wait Period Ends: April 7, 2003, Contact: Thomas Puchlerz (907) 228-6202.

EIS No. 030082, Final Supplement, COE, Missouri River Fish and Wildlife Mitigation Project to Restore Fish and Wildlife Habitat Losses Resulting from Construction, Operation and Maintenance of the Missouri River Bank Stabilization and Navigation Project (BSNP), Missouri River, Sioux City, Iowa to the Mouth near St. Louis, NB, KS and MO, Wait Period Ends: April 7, 2003, Contact: Kelly Ryan (816) 983-3324. This document is available on the Internet at: http://www.nwk.usace.army.mil/projects/mitigation/supplemental-eis.htm.

EIS No. 030083, Draft EIS, NPS, NJ, Morristown National Historical Park General Management Plan, Implementation, Morris and Somerset Counties, NJ, Comment Period Ends: May 09, 2003, Contact: Michael D. Henderson Ext (973) 539-2016.

EIS No. 030084, Draft EIS, BLM, ID, North Rasmussen Ridge Mine, Agrium Conda Phosphate Operations, Proposal to Extend the Existing Mining Operations, Federal Phosphate Leases I-04375 and I-07619 within the Caribou-Targhee National Forest, and State Lease I-9313, Soda Springs, Caribou County, ID, Comment Period Ends: May 6, 2003, Contact: Wendall Johnson (208) 478-6353.

EIS No. 030085, Draft EIS, AFS, ID, Golden Hand No. 3 and No. 4 Lode Mining Claims Proposed Plan of Operations, Implementation, Frank Church-River of No Return, (FC-RONR) Wilderness, Payette National Forest, Krassel Ranger District, Valley County, ID, Comment Period Ends: April 21, 2003, Contact: Quinn Carver (208) 634-0600. This document is available on the Internet at: http://www.fs.fed.us/r4/payette/main.html

EIS No. 030086, Final EIS, FRC, WV, NC, VA, Greenbrier Pipeline Project, (Docket Nos. CPO 2-396-000 and PF 01-1-000), Proposal to Construct and Operate a Natural Gas Pipeline and Associated Above Ground Facilities, Extending from east of Clendenin, Kanawha County, WV, VA and Granville County, NC, Wait Period Ends: April 7, 2003, Contact: Magalie R. Salas (202) 502-8659.

EIS No. 030087, Draft Supplement, AFS, MT, Keystone-Quartz Ecosystem Management Implementation, Updated Information on Alternatives, Beaverhead-Deerlodge National Forest, Wise River Ranger District, Beaverhead County, MT, Comment Period Ends: April 21, 2003, Contact: Cindy Tencick (406) 683-3930.

Amended Notices

EIS No. 030072, Draft EIS, COE, IL, Programmatic EIS—East St. Louis and Vicinity, Illinois Ecosystem Restoration and Flood Damage Reduction Project, Implementation, Madison and St. Clair Counties, IL, Comment Period Ends: May 7, 2003, Contact: Deborah Roush (314) 331-8033.

Revision of FR Notice Published FR 2-28-03

Correction to Website Address:

This document is available on the Internet at: http://www.mvs.usace.army.mil/pm/pmmain.htm.

Dated: March 4, 2003
Joseph C. Montgomery,
Director, NEPA Compliance Division, Office of Federal Activities.

[FR Doc. 03-5482 Filed 3-7-03; 8:45 am]

BILLING CODE 6560-50-P